OFFICE OF NATIONAL DRUG CONTROL POLICY

Paperwork Reduction Act; 30-Day Notice

AGENCY: Office of National Drug Control Policy.

The Office of National Drug Control Policy (ONDCP) proposes the collection of information concerning arrestee drug use. ONDCP hereby invites interested persons to submit comments to the Office of Management and Budget (OMB) regarding any aspect of this proposed effort.

Type of Information Collection: New collection.

Title: Arrestee Drug Abuse Monitoring (ADAM II) Program Questionnaire.

Use: The information will support statistical trend analysis.

Frequency: Ten sites will each conduct two cycles of surveys from 250 arrestees per cycle.

Annual Number of Respondents: 5000.

Total Annual Responses: 5000.

Average Burden per Response: 20 minutes.

Total Annual Hours: 1667.

Send comments to John Kraemer, OMB Desk Officer for ONDCP, New Executive Office Building, Room 10235, Washington, DC 20503. Comments must be received within 30 days. Request additional information by facsimile transmission to (202) 395-5598, attention: Robert Cohen, ONDCP, Office of Planning and Budget.

Dated: January 9, 2007.
Daniel R. Petersen,
Assistant General Counsel.

[FR Doc. E7-342 Filed 1-11-07; 8:45 am]

BILLING CODE 3180-02-P